DEPARTMENT OF HOUSING AND URBAN DEVELOPMENT

[Docket No. FR-6418-N-05]

Announcement of Funding Awards

AGENCY: Office of the Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following programs: Fiscal Year (FY) 2023 NOFO Healthy Homes and Weatherization Cooperation Demonstration (HHWCD) Grant Program, FY23 Lead and Healthy Homes Technical Studies (LHHTS) Grant Program, and FY23 NOFO Housing Counseling Training Grant Program.

FOR FURTHER INFORMATION CONTACT: Christine Brown, Acting Director, Office of the Chief Financial Officer (Systems), Grants Management and Oversight at AskGMO@hud.gov; telephone (202) 402-2440 or the contact person listed in each appendix. HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: HUD posted the FY23 NOFO Healthy Homes and Weatherization Cooperation Demonstration (HHWCD) Grant Program on grants.gov September 15, 2023 (FR-6700-N-62). The competition closed on November 6, 2023. HUD rated and selected applications for funding based on selection criteria contained in the NOFO. This competition awarded $1,000,000 to 1 recipient to fund a Healthy Homes and Weatherization Cooperation Demonstration grant that provides housing interventions in lower-income households that are served by both HUD's Healthy Homes Production (HHP) program and the Department of Energy's (DOE's) Weatherization Assistance Program (WAP) to determine whether coordination between the programs concerning the implementation of healthy homes remediation activities and energy conservation measures achieves cost-effectiveness and better outcomes in improving the safety and quality of homes.

HUD posted the FY23 Lead and Healthy Homes Technical Studies (LHHTS) Grant Program on grants.gov September 15, 2023 (FR-6700-N-15). The competition closed on November 6, 2023. HUD rated and selected applications for funding based on selection criteria contained in the NOFO. This competition awarded $13,393,381 to 15 recipients to fund studies to improve knowledge of housing-related health and safety hazards and to improve or develop new hazard assessment and control methods, with a focus on lead and other key residential health and safety hazards. In addition, the funded studies will advance the knowledge of priority healthy homes issues by addressing important gaps in science related to the accurate and efficient identification of hazards and the implementation of cost-effective hazard mitigation.

HUD posted the FY23 NOFO Housing Counseling Training Grant Program on grants.gov October 31, 2023 (FR-6700-N-30). The competition closed on November 30, 2023. HUD rated and selected applications for funding based on selection criteria contained in the NOFO. This competition awarded $2,750,000 to 7 recipients to provide professional development and educational offerings to equip new and existing HUD-certified housing counselors with the necessary tools to meet the evolving needs of homeowners, homebuyers, and renters. Training funds can also be used to prepare students for housing counseling careers and to attract a new pipeline of professionals to the housing counseling industry.

In accordance with section 102(a)(4)(C) of the Department of Housing and Urban Development Reform Act of 1989 (103 Stat. 1987, 42 U.S.C. 3545(a)(4)(C)), the Department is publishing the awardees and the amounts of the awards in Appendices A-C of this document.

Christine Brown,
Acting Director, Grants Management and Oversight, Office of the Chief Financial Officer.

Appendix A

Healthy Homes and Weatherization Cooperation Demonstration (HHWCD) Grant Program (FR-6700-N-62)

Contact: Emma Kaiser, 678-732-2214.

Legal name | Address | City | State | ZIP+4 | Amount
East Central Intergovernmental Association | 7600 Commerce Park | Dubuque | IA | 52002-9673 | $1,000,000.00

Appendix B

Lead and Healthy Homes Technical Studies (LHHTS) Grant Program (FR-6700-N-15)

Contact: Larry Byrd, (202) 402-8078.

Lead Technical Studies (LTS) Program
Organization | Address | City | State | ZIP+4 | Amount
Emory University | 1599 Clifton Road NE, 4th Floor | Atlanta | GA | 30322-4250 | $800,000.00
The Trustees of Columbia University in the City of New York | 615 West 131st Street | New York | NY | 10027-7922 | 799,837.00
LTS Total |  |  |  |  | 1,599,837.00

Healthy Homes Technical Studies (HHTS) Program
Organization | Address | City | State | ZIP+4 | Amount
Louisiana State University | 202 Himes Hall | Baton Rouge | LA | 70803-0001 | $984,594.00
Berkeley Air Monitoring Group, Inc | 1935 Addison Street, Suite A | Berkeley | CA | 94704-1354 | 987,868.00
Illinois Institute of Technology | 10 West 35th Street | Chicago | IL | 60616-3717 | 370,261.00
The Board of Trustees of the University of Illinois | 809 S Marshfield Avenue | Chicago | IL | 60612-7227 | 998,734.00
Johns Hopkins University | 733 North Broadway, Suite 117 | Baltimore | MD | 21205-1832 | 999,990.00
The Ohio State University | 1960 Kenny Road | Columbus | OH | 43210-1016 | 999,999.00
North Carolina State University | 2601 Wolf Village Way—Admin Services III, Suite 240 | Raleigh | NC | 27695-7514 | 999,917.00
Trustees Of Indiana University | 509 E 3rd St | Bloomington | IN | 47401-3654 | 994,743.00
The Curators of the University of Missouri | 5100 Rockhill Road | Kansas City | MO | 64110-2499 | 999,823.00
University of Pittsburgh | 300 Murdoch I Building | Pittsburgh | PA | 15260-3203 | 999,878.00
BanfieldBio Inc | 17309 174th Ave. NE, P.O. Box 2622 | Woodinville | WA | 98072-9697 | 997,467.00
University of North Dakota | 4201 James Ray Drive, Suite 2050 | Grand Forks | ND | 58202-8367 | 486,377.00
Rutgers University of New Jersey | 33 Knightsbridge Road 2nd Floor, East Wing | Piscataway | NJ | 08854-3925 | 973,893.00
HHTS Total |  |  |  |  | 11,793,544.00
LHHTS Total |  |  |  |  | 13,393,381.00

Appendix C

FY23 NOFO Housing Counseling Training Grant Program (FR-6700-N-30)

Contact: Joel Ibanez, 714-955-0812.

Grantee name | Address | City | State | Zip | Total award
National Association of Real Estate Brokers-Investment Division, Inc | 7677 OakPort Street, Suite 1030 | Oakland | CA | 94621 | $82,500.00
Rural Community Assistance Corporation | 3120 Freeboard Drive, Suite 201 | West Sacramento | CA | 95691 | 396,246.39
National Community Reinvestment Coalition | 740 15th St. NW, Suite 400 | Washington | DC | 20005 | 578,416.92
Neighborhood Reinvestment Corp., DBA Neighbor Works America | 255 Union St. NE, Suite 500 | Washington | DC | 20002 | 524,936.58
UnidosUS | 1126 16th Street NW, Suite 600 | Washington | DC | 20036 | 420,930.75
Housing Action Illinois | 67 E Madison Street, Suite 1603 | Chicago | IL | 60603 | 391,035.89
Neighborhood Stabilization Corporation | 225 Centre Street, Suite 100 | Boston | MA | 02119 | 355,933.47
Total |  |  |  |  | 2,750,000.00

[FR Doc. 2024-23197 Filed 10-7-24; 8:45 am]

BILLING CODE 4210-67-P